DEPARTMENT OF THE INTERIOR

Fish and Wildlife Service

Issuance of Permit for Marine Mammals

On April 21, 2000, a notice was published in the Federal Register, Vol. 65, No. 92, Page 30426, that an application had been filed with the Fish and Wildlife Service by James Adams, Fruitport, MI, for a permit (PRT-026025) to import a sport-hunted polar bear (Ursus maritimus) trophy, taken from the Southern Beaufort Sea polar bear population, Northwest Territories, Canada for personal use.

Notice is hereby given that on July 12, 2000, as authorized by the provisions of the Marine Mammal Protection Act of 1972, as amended (16 U.S.C. 1361 et seq.) the Fish and Wildlife Service authorized the requested permit subject to certain conditions set forth therein.

On April 21, 2000, a notice was published in the Federal Register, Vol. 65, No. 92, Page 30426, that an application had been filed with the Fish and Wildlife Service by Williams E. Schwartz, Bossier, LA, for a permit (PRT-026830) to import a sport-hunted polar bear (Ursus maritimus) trophy, taken from the Resolute Bay polar bear population, Northwest Territories, Canada for personal use.

Notice is hereby given that on June 6, 2000, as authorized by the provisions of the Marine Mammal Protection Act of 1972, as amended (16 U.S.C. 1361 et seq.) the Fish and Wildlife Service authorized the requested permit subject to certain conditions set forth therein.

On April 21, 2000, a notice was published in the Federal Register, Vol. 65, No. 92, Page 30426, that an application had been filed with the Fish and Wildlife Service by Jon C. Bumstead, Newaygo, MI, for a permit (PRT-026138) to import a sport-hunted polar bear (Ursus maritimus) trophy, taken from the Southern Beaufort Sea polar bear population, Northwest Territories, Canada for personal use.

Notice is hereby given that on May 30, 2000, as authorized by the provisions of the Marine Mammal Protection Act of 1972, as amended (16 U.S.C. 1361 et seq.) the Fish and Wildlife Service authorized the requested permit subject to certain conditions set forth therein.

On December 10, 1999, a notice was published in the Federal Register, Vol. 64, No. 237, Page 69291, that an application had been filed with the Fish and Wildlife Service by Richard Lee Dorigatti, Logan, UT, for a permit (PRT-020091) to import a sport-hunted polar bear (Ursus maritimus) trophy, taken from the Western Hudson Bay polar bear population, Northwest Territories, Canada for personal use.

Notice is hereby given that on January 27, 2000, as authorized by the provisions of the Marine Mammal Protection Act of 1972, as amended (16 U.S.C. 1361 et seq.) the Fish and Wildlife Service authorized the requested permit subject to certain conditions set forth therein.

On May 22, 2000, a notice was published in the Federal Register, Vol. 65, No. 99, Page 32121, that an application had been filed with the Fish and Wildlife Service by Edward D. Yates, Wrightsville, PA, for a permit (PRT-027205) to import a sport-hunted polar bear (Ursus maritimus) trophy, taken from the Lancaster Sound polar bear population, Northwest Territories, Canada for personal use.

Notice is hereby given that on July 18, 2000, as authorized by the provisions of the Marine Mammal Protection Act of 1972, as amended (16 U.S.C. 1361 et seq.) the Fish and Wildlife Service authorized the requested permit subject to certain conditions set forth therein.

On June 15, 2000, a notice was published in the Federal Register, Vol. 65, No. 116, Page 37569, that an application had been filed with the Fish and Wildlife Service by Michael R. Koenig, Sheboygan, WI, for a permit (PRT-028562) to import a sport-hunted polar bear (Ursus maritimus) trophy, taken from the Southern Beaufort Sea polar bear population, Northwest Territories, Canada for personal use.

Notice is hereby given that on July 18, 2000, as authorized by the provisions of the Marine Mammal Protection Act of 1972, as amended (16 U.S.C. 1361 et seq.) the Fish and Wildlife Service authorized the requested permit subject to certain conditions set forth therein.

On June 8, 2000, a notice was published in the Federal Register, Vol. 65, No. 111, Page 36464, that an application had been filed with the Fish and Wildlife Service by John T. Shillingburg, Riviera Beach, FL, for a permit (PRT-027987) to import a sport-hunted polar bear (Ursus maritimus) trophy, taken from the Northern Beaufort Sea polar bear population, Northwest Territories, Canada for personal use.

Notice is hereby given that on July 18, 2000, as authorized by the provisions of the Marine Mammal Protection Act of 1972, as amended (16 U.S.C. 1361 et seq.) the Fish and Wildlife Service authorized the requested permit subject to certain conditions set forth therein.

On June 8, 2000, a notice was published in the Federal Register, Vol. 65, No. 111, Page 36464, that an application had been filed with the Fish and Wildlife Service by Kevin S. Small, Bakersfield, CA, for a permit (PRT-027926) to import a sport-hunted polar bear (Ursus maritimus) trophy, taken from the Lancaster Sound polar bear population, Northwest Territories, Canada for personal use.

Notice is hereby given that on July 18, 2000, as authorized by the provisions of the Marine Mammal Protection Act of 1972, as amended (16 U.S.C. 1361 et seq.) the Fish and Wildlife Service authorized the requested permit subject to certain conditions set forth therein.

On June 8, 2000, a notice was published in the Federal Register, Vol. 65, No. 111, Page 36464, that an application had been filed with the Fish and Wildlife Service by Dennis M. Lord, Woodstock, GA, for a permit (PRT-027525) to import a sport-hunted polar bear (Ursus maritimus) trophy, taken from the McClintock Channel polar bear population, Northwest Territories, Canada for personal use.

Notice is hereby given that on July 18, 2000, as authorized by the provisions of the Marine Mammal Protection Act of 1972, as amended (16 U.S.C. 1361 et seq.) the Fish and Wildlife Service authorized the requested permit subject to certain conditions set forth therein.

On May 22, 2000, a notice was published in the Federal Register, Vol. 65, No.99, Page 32121, that an application had been filed with the Fish and Wildlife Service by Dyrk Tyrone Eddie, Kalispell, MT, for a permit (PRT-027384) to import a sport-hunted polar bear (Ursus maritimus) trophy, taken from the Lancaster Sound polar bear population, Northwest Territories, Canada for personal use.

Notice is hereby given that on July 19, 2000, as authorized by the provisions of the Marine Mammal Protection Act of 1972, as amended (16 U.S.C. 1361 et seq.) the Fish and Wildlife Service authorized the requested permit subject to certain conditions set forth therein.

Dated: August 2, 2000.
Kristen Nelson,
Chief, Branch of Permits, Office of Management Authority.

[FR Doc. 00-20237 Filed 8-9-00; 8:45 am]

BILLING CODE 4310-55-P